DEPARTMENT OF THE TREASURY

Internal Revenue Service

26 CFR Part 301

[REG-120137-19]

RIN 1545-BP66

Update of Regulations Regarding Payment of Tax by Commercially Acceptable Means

AGENCY: Internal Revenue Service (IRS), Treasury.

ACTION: Notice of proposed rulemaking; reopening of comment period.

SUMMARY: This document reopens the period to submit comments or to request a public hearing for a notice of proposed rulemaking (REG-120137-19) that was published in the Federal Register on Tuesday, July 2, 2024. The proposed regulations relate to the payment of tax by commercially acceptable means and reflect changes to the law made by the Taxpayer First Act that would allow the IRS to directly accept payments of tax by credit or debit card, without having to connect taxpayers to third-party payment processors.

DATES: The comment period to submit written or electronic comments for the notice of proposed rulemaking published on July 2, 2024 (89 FR 54746), or to request a public hearing, is reopened through September 24, 2024.

ADDRESSES: Commenters are strongly encouraged to submit public comments electronically. Submit electronic submissions via the Federal eRulemaking Portal at https://www.regulations.gov (indicate IRS and REG-120137-19) by following the online instructions for submitting comments. Requests for a public hearing must be submitted as prescribed in the “Comments and Requests for a Public Hearing” section. Once submitted to the Federal eRulemaking Portal, comments cannot be edited or withdrawn. The Department of the Treasury (Treasury Department) and the IRS will publish any comments submitted electronically or on paper to the public docket. Send paper submissions to: CC:PA:01:PR (REG-120137-19), Room 5203, Internal Revenue Service, P.O. Box 7604, Ben Franklin Station, Washington, DC 20044.

FOR FURTHER INFORMATION CONTACT: Concerning the proposed regulations, Crystal Jackson-Kaloz of the Office of the Associate Chief Counsel (Procedure and Administration), (202) 317-5191 (not a toll-free number); concerning the submission of comments and requests for a public hearing, Publications and Regulations Section at (202) 317-6901 (not a toll-free number), or by sending an email at publichearings@irs.gov (preferred).

SUPPLEMENTARY INFORMATION: A notice of proposed rulemaking and request for comments that appeared in the Federal Register on Tuesday, July 2, 2024 (89 FR 54746), announced that written or electronic comments must be received by September 3, 2024. Due to public interest, the due date to receive comments or request a public hearing has been reopened through Tuesday, September 24, 2024.

Regina L. Johnson,
Federal Register Liaison, Publications and Regulations Section, Associate Chief Counsel, (Procedure and Administration).

[FR Doc. 2024-19854 Filed 9-4-24; 8:45 am]

BILLING CODE 4830-01-P